DEPARTMENT OF TRANSPORTATION

Office of the Secretary

[Docket No. DOT-OST-2017-0069]

Notice of Review of Guidance

AGENCY: Office of the Secretary (OST); DOT.

ACTION: Notice.

SUMMARY: The U.S. Department of Transportation (the Department or DOT) is extending the comment period for its Notice of Review of Guidance by 30 days. The comment period was originally scheduled to end April 8, 2019. It will now end May 8, 2019.

DATES: Responses should be filed by May 8, 2019. The Department will continue to check the docket for late filed responses after the comment period closes.

ADDRESSES: You may file responses identified by the docket number DOT-OST-2017-0069 by any of the following methods:

• Federal eRulemaking Portal: go to http://www.regulations.gov and follow the online instructions for submitting comments.

• Mail: Docket Management Facility, U.S. Department of Transportation, 1200 New Jersey Ave. SE, West Building Ground Floor, Room W12-140, Washington, DC 20590-0001.

• Hand Delivery or Courier: West Building Ground Floor, Room W12-140, 1200 New Jersey Ave. SE, between 9:00 a.m. and 5:00 p.m. ET, Monday through Friday, except Federal holidays.

• Fax: (202) 493-2251.

Instructions: You must include the agency name and docket number DOT-OST-2017-0069 at the beginning of your submission. All submissions received will be posted without change to http://www.regulations.gov, including any personal information provided.

Privacy Act: Anyone is able to search the electronic form of all submissions received in any of our dockets by the name of the individual submitting the document (or signing the submission, if submitted on behalf of an association, business, labor union, etc.). You may review DOT's complete Privacy Act statement in the Federal Register published on April 11, 2000 (65 FR 19477-78), or you may visit http://DocketsInfo.dot.gov.

Docket: For access to the docket to read background documents and comments received, go to http://www.regulations.gov or to the street address listed above. Follow the online instructions for accessing the docket.

FOR FURTHER INFORMATION CONTACT: Jonathan Moss, Assistant General Counsel for Regulation, U.S. Department of Transportation, 1200 New Jersey Avenue SE, Washington, DC 20590, 202-366-4723 (phone), jonathan.moss@dot.gov (email).

SUPPLEMENTARY INFORMATION: On February 5, 2019, the Department issued a Notice of Review of Guidance (Notice) seeking comment from the public on guidance documents that (a) are no longer necessary; (b) spur cost-inducing action by the regulated entities; (c) are inconsistent or unclear; (d) may not be conducive to uniform or consistent enforcement; or (e) need to be updated to reflect developments that have taken place since the guidance was issued. DOT provided a 60-day comment period for responses to the Notice.

The Department received a request from the American Association of State Highway and Transportation Officials for a 30-day extension from the close of the comment period. The Department agrees that interested stakeholders could benefit from the extension. Accordingly, the Department extends the comment period for the Notice by 30 days. The comment period was originally scheduled to end April 8, 2019. It will now end May 8, 2019. Additionally, DOT will continue to check the docket for late filed comments after the comment period closes.

Issued on March 1, 2019, in Washington, DC.
Steven G. Bradbury,
General Counsel.

[FR Doc. 2019-04227 Filed 3-7-19; 8:45 am]

BILLING CODE 4910-9X-P